DEPARTMENT OF TRANSPORTATION

Federal Aviation Administration

14 CFR Part 39

[Docket No. FAA-2022-1310; Project Identifier MCAI-2022-01261-A; Amendment 39-22220; AD 2022-22-05]

RIN 2120-AA64

Airworthiness Directives; NZSkydive Limited (Type Certificate Previously Held by Pacific Aerospace Ltd.) Airplanes

AGENCY: Federal Aviation Administration (FAA), DOT.

ACTION: Final rule; request for comments.

SUMMARY: The FAA is adopting a new airworthiness directive (AD) for NZSkydive Limited (type certificate previously held by Pacific Aerospace Ltd.) Model FBA-2C1, FBA-2C2, FBA-2C3, and FBA-2C4 airplanes. This AD results from mandatory continuing airworthiness information (MCAI) originated by an aviation authority of another country to identify and correct an unsafe condition on an aviation product. The MCAI identifies the unsafe condition as a batch of aileron control chain sprockets being manufactured with a non-metallic sleeve insert in the sprocket bore, which can cause cracks to develop and affect the integrity of the aileron control chain sprockets. This AD requires inspecting the sprockets to determine if they have a non-metallic sleeve in the sprocket bore and replacing any sprocket found with a non-metallic sleeve in the sprocket bore with one with a metallic sleeve, and prohibits installation of aileron control chain sprockets with non-metallic sleeves in the sprocket bore. The FAA is issuing this AD to address the unsafe condition on these products.

DATES: This AD is effective November 9, 2022.

The FAA must receive comments on this AD by December 9, 2022.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1310; or in person at Docket Operations between 9 a.m. and 5 p.m., Monday through Friday, except Federal holidays. The AD docket contains this final rule, the MCAI, any comments received, and other information. The street address for Docket Operations is listed above.

FOR FURTHER INFORMATION CONTACT: Mike Kiesov, Aviation Safety Engineer, FAA, General Aviation & Rotorcraft Section, International Validation Branch, 901 Locust, Room 301, Kansas City, MO 64106; phone: (816) 329-4144; email: mike.kiesov@faa.gov.

SUPPLEMENTARY INFORMATION:

Comments Invited

The FAA invites you to send any written data, views, or arguments about this final rule. Send your comments to an address listed under ADDRESSES. Include “Docket No. FAA-2022-1310; Project Identifier MCAI-2022-01261-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Mike Kiesov, Aviation Safety Engineer, FAA, General Aviation & Rotorcraft Section, International Validation Branch, 901 Locust, Room 301, Kansas City, MO 64106. Any commentary that the FAA receives which is not specifically designated as CBI will be placed in the public docket for this rulemaking.

Background

The Civil Aviation Authority (CAA) of New Zealand, which is the aviation authority for New Zealand, has issued CAA of New Zealand AD DCA/FBA/5, dated September 23, 2022 (referred to after this as “the MCAI”), to correct an unsafe condition on Pacific Aerospace (the type certificate holder on the FAA type certificate data sheet is NZSkydive Limited) Model FBA-2C1, FBA-2C2, FBA-2C3, and FBA-2C4 airplanes delivered after November 2012, fitted with an aileron control chain sprocket part number (P/N) C446 received and installed after November 2012, and sprockets with P/N C446 received after November 2012 as spare parts for all serial numbers. The MCAI states that it was prompted by reports of cracks found at the roll pin holes in an affected batch of sprockets having P/N C446 that were manufactured with non-metallic sleeve inserts in the sprocket bore. These cracks can affect the integrity of the aileron control chain sprockets and have the potential to produce binding of the aileron flight controls. The unsafe condition, if not addressed, could lead to loss of integrity of the aileron control chain sprockets with consequent loss of control of the airplane.

You may examine the MCAI in the AD docket at regulations.gov under Docket No. FAA-2022-1310.

Related Service Information

The FAA reviewed Pacific Aerospace Mandatory Service Bulletin PACSB/2C/002, Issue 1, dated September 20, 2022, which specifies inspecting the aileron control chain sprockets to determine if they have a non-metallic sleeve in the sprocket bore and replacing any aileron control chain sprocket found with a non-metallic sleeve in the sprocket bore with one with a metallic sleeve.

FAA's Determination

These products have been approved by the aviation authority of another country and are approved for operation in the United States. Pursuant to the FAA's bilateral agreement with this State of Design Authority, it has notified the FAA of the unsafe condition described in the MCAI and service information described above. The FAA is issuing this AD after determining that the unsafe condition described previously is likely to exist or develop on other products of these same type designs.

AD Requirements

This AD requires inspecting the aileron control chain sprockets to determine if they have a non-metallic sleeve in the sprocket bore and replacing any sprocket found with a non-metallic sleeve in the sprocket bore with one with a metallic sleeve. This AD also prohibits the installation of aileron control chain sprockets with non-metallic sleeves in the sprocket bore.

Differences Between This AD and the MCAI

The MCAI refers to the design approval holder as Pacific Aerospace, and this AD refers to the design approval holder as NZSkydive Limited because that is the name on the FAA type certificate.

The MCAI references dates of delivery for the aileron control chain sprockets (when the non-metallic sleeves were used) and this AD requires an inspection to determine if non-metallic sleeves in the sprocket bore are installed on all airplanes.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because aileron control chain sprockets with a non-metallic sleeve insert in the sprocket bore can develop cracks and affect the integrity of the aileron control chain sprockets. Because this condition can develop quickly and without advance warning and lead to loss of control of the airplane, immediate action must be done before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 3 airplanes of U.S. registry.

The FAA estimates the following costs to comply with this AD:

Estimated Costs
Action | Labor cost | Parts cost | Cost per product | Cost on U.S. operators
Inspect aileron control chain sprockets for a non-metallic sleeve | 3 work-hours × $85 per hour = $255 | Not applicable | $255 | $765

The FAA estimates the following costs to do any necessary replacements that would be required based on the results of the inspection. The agency has no way of determining the number of airplanes that might need these replacements:

On-Condition Costs
Action | Labor cost | Parts cost | Cost per product
Replace aileron control chain sprocket(s) | 3 work-hours × $85 per hour = $255 | $520 (If replacing all four sprockets) | $775 (If replacing all four sprockets).

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-22-05 NZSkydive Limited (type certificate previously held by Pacific Aerospace Ltd.): Amendment 39-22220; Docket No. FAA-2022-1310; Project Identifier MCAI-2022-01261-A.

(a) Effective Date

This airworthiness directive (AD) is effective November 9, 2022.

(b) Affected ADs

None.

(c) Applicability

All NZSkydive Limited (type certificate previously held by Pacific Aerospace Ltd.) Model FBA-2C1, FBA-2C2, FBA-2C3, and FBA-2C4 airplanes, all serial numbers, certificated in any category.

(d) Subject

Joint Aircraft System Component (JASC) Code 2710, Aileron Control System.

(e) Unsafe Condition

This AD was prompted by mandatory continuing airworthiness information (MCAI) originated by an aviation authority of another country to identify and correct an unsafe condition on an aviation product. The MCAI identifies the unsafe condition as a batch of aileron control chain sprockets being manufactured with a non-metallic sleeve insert in the sprocket bore, which can cause cracks to develop and affect the integrity of the aileron control chain sprockets. The FAA is issuing this AD to prevent cracks from forming in the aileron control chain sprockets due to non-metallic sleeves in the sprocket bore. These cracks can affect the integrity of the aileron control chain sprockets and have the potential to produce binding of the aileron flight controls. The unsafe condition, if not addressed, could lead to loss of integrity of the aileron control chain sprockets with consequent loss of control of the airplane.

(f) Compliance

Comply with this AD within the compliance times specified, unless already done.

(g) Action

(1) Before further flight after the effective date of this AD, remove the four aileron control chain sprockets in the control arm and yoke assembly and inspect the sprockets to determine if a non-metallic sleeve is fitted in the sprocket bore.

(2) If a non-metallic sleeve is found fitted in any aileron control chain sprocket bore, before further flight, replace the affected aileron control chain sprocket with a part that does not have a non-metallic sleeve.

(3) As of the effective date of this AD, do not install an aileron control chain sprocket part number C446, unless it has been inspected by following paragraph (g)(1) of this AD and found to have a metallic sleeve fitted in the sprocket bore.

Note to paragraph (g): Pacific Aerospace Mandatory Service Bulletin PACSB/2C/002, Issue 1, dated September 20, 2022, contains information related to this subject.

(h) Special Flight Permits

Special flight permits are prohibited.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (j)(2) of this AD or email to: 9-AVS-AIR-730-AMOC@faa.gov. If mailing information, also submit information by email.

(2) Before using any approved AMOC, notify your appropriate principal inspector, or lacking a principal inspector, the manager of the local flight standards district office/certificate holding district office.

(j) Additional Information

(1) Refer to Civil Aviation Authority (CAA) of New Zealand AD DCA/FBA/5, dated September 23, 2022, for related information. This CAA of New Zealand AD may be found in the AD docket at regulations.gov under Docket No. FAA-2022-1310.

(2) For more information about this AD, contact Mike Kiesov, Aviation Safety Engineer, FAA, General Aviation & Rotorcraft Section, International Validation Branch, 901 Locust, Room 301, Kansas City, MO 64106; phone: (816) 329-4144; email: mike.kiesov@faa.gov.

(3) For service information identified in this AD that is not incorporated by reference, contact NZSkydive Limited, 333 Airport Road, Hamilton, New Zealand, 3282; phone: +64 7 843 6144; email: pacific@aerospace.co.nz; website: aerospace.co.nz. You may view this service information at the FAA, Airworthiness Products Section, Operational Safety Branch, 901 Locust, Kansas City, MO 64106. For information on the availability of this material at the FAA, call (817) 222-5110.

(k) Material Incorporated by Reference

None.

Issued on October 20, 2022.
Christina Underwood,
Acting Director, Compliance & Airworthiness Division, Aircraft Certification Service.

[FR Doc. 2022-23231 Filed 10-21-22; 11:15 am]

BILLING CODE 4910-13-P